DEPARTMENT OF COMMERCE

International Trade Administration

[A-570-014]

53-Foot Domestic Dry Containers From the People's Republic of China: Postponement of Preliminary Determination of Antidumping Duty Investigation

AGENCY: Enforcement and Compliance, International Trade Administration, Department of Commerce.

DATES: Effective Date: August 28, 2014.

FOR FURTHER INFORMATION CONTACT: Angelica Mendoza, John Drury or Brian Davis, Office VI, AD/CVD Operations, Enforcement and Compliance, International Trade Administration, U.S. Department of Commerce, 14th Street and Constitution Avenue NW., Washington, DC 20230, telephone: (202) 482-3019, (202) 482-0195 or (202) 482-7924, respectively.

SUPPLEMENTARY INFORMATION:

Background

On May 19, 2014, the Department of Commerce (the Department) published in the Federal Register the initiation of the antidumping duty investigation of 53-foot domestic dry containers from the People's Republic of China (PRC).¹ The current deadline for the preliminary determination of this investigation is September 30, 2014.

¹ See 53-Foot Domestic Dry Containers From the People's Republic of China: Initiation of Antidumping Duty Investigation, 79 FR 28674 (May 19, 2014) (Notice of Initiation).

Period of Investigation

The period of investigation is October 1, 2013, through March 31, 2014.

Postponement of Preliminary Determination

Section 733(b)(1)(A) of the Tariff Act of 1930, as amended (the Act), requires the Department to make a preliminary determination no later than 140 days after the initiation of the antidumping duty investigation. On July 25, 2014, Stoughton Trailers LLC (Petitioner) made a timely request pursuant to section 733(c)(1)(A) and 19 CFR 351.205(e) for a postponement of the preliminary determination because the Department is still gathering questionnaire responses from the mandatory respondents and publicly-available information necessary to value respondents' factors of production.²

² See Letter from Petitioner to the Department, dated July 25, 2014.

For the reasons stated above and because there are no compelling reasons to deny the request, the Department is postponing by 50 days, to November 19, 2014, the deadline for its preliminary determination of this investigation pursuant to section 733(c)(1)(A) of the Act and 19 CFR 351.205(e) and (f). In accordance with section 735(a)(1) of the Act, the deadline for the final determination of this antidumping duty investigation will continue to be 75 days after the date of the preliminary determination, unless extended.

This notice is issued and published in accordance with section 733(c)(2) of the Act and 19 CFR 351.205(f)(1).

Dated: August 21, 2014.
Ronald K. Lorentzen,
Acting Assistant Secretary for Enforcement and Compliance.

[FR Doc. 2014-20520 Filed 8-27-14; 8:45 am]

BILLING CODE 3510-DS-P